DEPARTMENT OF COMMERCE

International Trade Administration

[A-421-811]

Notice of Amended Preliminary Determination of Sales at Less Than Fair Value: Purified Carboxymethylcellulose From the Netherlands

AGENCY: Import Administration, International Trade Administration, Department of Commerce.

ACTION: Notice of amended preliminary determination of sales at less than fair value.

EFFECTIVE DATE: February 3, 2005.

FOR FURTHER INFORMATION CONTACT: Angelica Mendoza or John Drury, Office 7, Import Administration, International Trade Administration, U.S. Department of Commerce, 1401 Constitution Avenue, NW., Washington, DC 20230; telephone: (202) 482-3019 or (202) 482-0195, respectively.

SUPPLEMENTARY INFORMATION:

Background

On December 16, 2004, the Department determined that purified carboxymethylcellulose (“CMC”) from the Netherlands is being, or is likely to be, sold in the United States at less than fair value (“LTFV”), as provided in section 735(a) of the Tariff Act of 1930, as amended (“the Act”). See Notice of Preliminary Determination of Sales at Less Than Fair Value and Postponement of Final Determination: Purified Carboxymethylcellulose From the Netherlands, 69 FR 77205 (December 27, 2004). The Department released disclosure materials to interested parties on December 21, 2004.

On December 27, 2004, respondent Noviant BV (“Noviant”) submitted a letter to the Department alleging significant ministerial errors as defined by 19 CFR 351.224(g). On December 30, 2004, Aqualon Company (“petitioner”) also submitted a letter to the Department alleging an additional ministerial error.

Scope of the Investigation

For purposes of this investigation, the products covered are all purified CMC, sometimes also referred to as purified sodium CMC, polyanionic cellulose, or cellulose gum, which is a white to off-white, non-toxic, odorless, biodegradable powder, comprising sodium CMC that has been refined and purified to a minimum assay of 90 percent. Purified CMC does not include unpurified or crude CMC, CMC Fluidized Polymer Suspensions, and CMC that is cross-linked through heat treatment. Purified CMC is CMC that has undergone one or more purification operations which, at a minimum, reduce the remaining salt and other by-product portion of the product to less than ten percent.

The merchandise subject to this investigation is classified in the Harmonized Tariff Schedule of the United States (“HTSUS”) at subheading 3912.31.00. This tariff classification is provided for convenience and customs purposes; however, the written description of the scope of this investigation is dispositive.

Amended Preliminary Determination

In accordance with section 735(e) of the Act, we have determined that significant ministerial errors were made in the calculation of Noviant's preliminary margin. Specifically, we have determined that there were errors concerning the calculation of constructed export price (“CEP”) profit, third-party commissions, indirect selling expenses, currency conversions, billing adjustments, and level of trade. We have disregarded comments by petitioner as they were not timely filed in accordance with 19 CFR 351.224(c)(2). For a detailed discussion of the above-cited ministerial error allegations and the Department's analysis, see Memorandum to Richard O. Weible, “Allegation of Significant Ministerial Errors; Preliminary Determination in the Antidumping Duty Investigation of Purified Carboxymethylcellulose from the Netherlands” dated January 27, 2005, a public version of which is on file in room B-099 of the main Commerce building.

Therefore, in accordance with 19 CFR 351.224(e), we are amending the preliminary determination of the antidumping duty investigation of Purified CMC to correct these significant ministerial errors. The revised preliminary weighted-average dumping margins are as follows:

Exporter/manufacturer | Original weighted-average margin percentage | Revised weighted-average margin percentage
Noviant BV | 27.11 | 13.27
All others | 22.21 | 12.84

Continuation of Suspension of Liquidation

In accordance with section 735(c)(1)(B) of the Act, we are directing U.S. Customs and Border Protection (“CBP”) to continue to suspend liquidation of all imports of Purified CMC from the Netherlands. CBP shall require a cash deposit or the posting of a bond equal to the weighted-average amount by which the normal value exceeds the export price or CEP, as indicated in the chart above. These suspension of liquidation instructions will remain in effect until further notice.

This determination is issued and published in accordance with sections 735(d) and 777(i)(1) of the Act.

Dated: January 28, 2005.
Joseph A. Spetrini,
Acting Assistant Secretary for Import Administration.

[FR Doc. 05-2089 Filed 2-2-05; 8:45 am]

BILLING CODE 3510-DS-P